DEPARTMENT OF COMMERCE

National Oceanic and Atmospheric Administration

RIN: 0648-XI56

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scientific and Statistical Committee on July 10, 2008 to consider actions affecting New England fisheries in the exclusive economic zone (EEZ). Recommendations from this group will be brought to the full Council for formal consideration and action, if appropriate.

DATES: This meeting will be held on Thursday, July 10, 2008, at 8:30 a.m.

ADDRESSES: The meeting will be held at the Gulf of Maine Research Institute, 350 Commercial Street, Portland, ME 04101; telephone: (207) 772-2321; fax: (207) 772-6855.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: In addition to electing a Chairman and Vice Chairman, the Science and Statistical Committee (SSC) will: (1) review and develop comments on the NMFS proposed rule that addresses requirements for annual catch limits and accountability measures; (2) as part of Amendment 16 to the Council's Northeast Multispecies (Groundfish) Fishery Management Plan, review a proposed process for setting northeast multispecies overfishing levels, acceptable biological catch and annual catch limits; (3) review Groundfish Plan Development Team guidance for evaluating uncertainty when setting annual catch limits, and; 4) review analytic techniques for estimating the economic impacts of groundfish management actions.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 18, 2008.
Tracey L. Thompson,
Acting Director, Office of Sustainable Fisheries, National Marine Fisheries Service.

[FR Doc. E8-14069 Filed 6-20-08; 8:45 am]

BILLING CODE 3510-22-S